DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 14, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 7, 2024.
Donald P. Burger,
Chief, General Approvals and Permits Branch.

Application No. | Applicant | Regulation(s) affected | Nature of the special permits thereof
Special Permits Data—Granted
11215-M | Orbital Sciences LLC | 172.300, 172.600, 172.400, 172.500, 173.62, 175.75 | To modify the special permit to authorize motor vehicle as a mode.
15284-M | Solvay Fluorides, LLC | 173.31(e)(2)(ii), 173.244(a)(2), 179.15(a) | To modify the special permit to authorize an additional tank car specification. (mode 2)
16172-M | Entegris, Inc | 173.301(f) | To modify the special permit to authorize additional hazardous materials.
20245-M | Jaguar Instruments Inc | 173.201, 173.202, 173.203, 173.301(f)(2), 177.840(a)(1) | To modify the special permit to authorize a cylinder with a length not exceeding 48 inches.
21360-M | ABG Bag, Inc | 173.12(b)(2)(ii)(C), 178.707(d) | To modify the special permit to authorize cargo vessel.
21543-M | Consumer Product Safety Commission, United States | 173.185(a)(1) | To modify the special permit to authorize an additional hazardous material and packaging.
21619-N | Decade Products, LLC | 173.185(f)(1), 173.185(f)(3) | To authorize the manufacture, mark, sale, and use of specially designed packagings for the transportation in commerce of damaged, defective, or recalled lithium ion cells and batteries and lithium metal cells and batteries and those contained in or packed with equipment.
21661-N | ThermAvant Technologies, LLC | 173.301(f), 173.304(a) | To authorize the transportation in commerce of non-DOT specification packagings containing anhydrous ammonia.
21663-M | Orbion Space Technology, Inc | 172.203(a), 172.301(c), 173.301(f)(1), 173.302(a)(1) | To modify the special permit to authorize an additional packaging and to authorize an increase in the filling pressure.
21708-N | Airbus U.S. Space & Defense, Inc | 171.23(a)(1), 171.23(a)(3), 172.101(j)(1), 173.301(f), 173.302a(a)(1), 173.304a(a)(2) | To authorize the transportation in commerce of certain non-DOT specification containers containing certain Division 2.2 and 2.3 materials for use in satellites.
21720-M | Environmental Works, Inc | 178.274 | To modify the special permit to authorize an additional shipment.
21749-N | Metropolitan Police Service | 172.301(c), 175.10(a), 175.75(b) | To authorize the transportation in commerce of one First Aid/Trauma Kit (FAT Kit) containing a Division 2.2 gas in the passenger cabin of a commercial aircraft.
Special Permits Data—Denied
21632-N | Weilert Enterprises, Inc | 173.56(b) | To authorize the manufacture, mark, sale, and use of packaging for cartridges, power device classed as Division 1.4S for the transportation in commerce of these hazardous materials without requiring classification testing, examination, and approval.
Special Permits Data—Withdrawn
21534-N | TechKnowServ Corp | 180.205(f), 180.205(g) | To authorize the transportation in commerce of certain gases in Composite Overwrapped Pressure Vessels (COPV) where Modal Acoustic Emission (MAE) testing is used for requalification in lieu of the hydrostatic or proof pressure testing and internal visual inspections required in § 180.205 and the relevant special permits as described in this special permit.
21748-N | Chemquest, Inc | 178.601(g)(1)(i)(C) | To authorize the use of a 4G combination packaging containing inner bottles that each have a closure not of a similar design to the tested design for the transportation in commerce of the hazardous materials authorized by this special permit.

[FR Doc. 2024-10572 Filed 5-14-24; 8:45 am]

BILLING CODE 4909-60-P